DEPARTMENT OF THE INTERIOR

National Park Service

[NPS-SER-BICY-0601-7609; 5120-SZM]

Cancellation of June 23, 2011, Meeting of the Big Cypress National Preserve Off-Road Vehicle (ORV) Advisory Committee

AGENCY: Department of the Interior, National Park Service, ORV Advisory Committee.

ACTION: Cancellation of meeting.

SUMMARY: In accordance with the Federal Advisory Committee Act (Pub. L. 92-463, 86 Stat. 770, 5 U.S.C. App 1, 10), notice is hereby given that the June 23, 2011, meeting of the Big Cypress National Preserve ORV Advisory Committee previously announced in the Federal Register, Vol. 76, January 20, 2011, p. 3653, is cancelled.

FOR FURTHER INFORMATION CONTACT: Pedro Ramos, Superintendent, Big Cypress National Preserve, 33100 Tamiami Trail East, Ochopee, Florida 34141-1000; 239-695-1103.

SUPPLEMENTARY INFORMATION: The Committee was established (Federal Register, August 1, 2007, pp. 42108-42109) pursuant to the Preserve's 2000 Recreational Off-road Vehicle Management Plan and the Federal Advisory Committee Act of 1972 (5 U.S.C. Appendix) to examine issues and make recommendations regarding the management of off-road vehicles (ORVs) in the Preserve. The agendas for these meetings are published by press release and on the http://parkplanning.nps.gov/projectHome.cfm?parkId=352&projectId=20437 Web site. The meetings are open to the public, and time is reserved for public comment. Oral comments are summarized for the record. If you wish to have your comments recorded verbatim, you must submit them in writing. Before including your address, phone number, e-mail address, or other personal identifying information in your comment, you should be aware that your entire comment—including your personal identifying information—may be made publicly available at any time. While you can ask us in your comment to withhold your personal identifying information from public review, we cannot guarantee that we will be able to do so.

Dated: June 1, 2011.
Pedro Ramos,
Superintendent, Big Cypress National Preserve.

[FR Doc. 2011-15068 Filed 6-16-11; 8:45 am]

BILLING CODE 4310-V6-P